ENVIRONMENTAL PROTECTION AGENCY

[Docket # EPA-RO4-SFUND-2009-0434, FRL-8925-1]

Davis Refining Superfund Site: Tallahassee, Leon County, FL; Notice of Settlements

AGENCY: Environmental Protection Agency.

ACTION: Notice of settlements.

SUMMARY: Under Section 122(h)(1) of the Comprehensive Environmental Response, Compensation and Liability Act (CERCLA), the United States Environmental Protection Agency has entered into five settlements for reimbursement of past response costs concerning the Davis Refining Superfund Site located in Tallahassee, Leon County, Florida for publication.

DATES: The Agency will consider public comments on the settlements until August 3, 2009. The Agency will consider all comments received and may modify or withdraw its consent to the settlements if comments received disclose facts or considerations which indicate that the settlements are inappropriate, improper, or inadequate.

ADDRESSES: Copies of the settlements are available from Ms. Paula V. Painter. Submit your comments, identified by Docket ID No. EPA-R04-SFUND-2009-0434 or Site name Davis Refining Superfund Site by one of the following methods:

www.regulations.gov: Follow the on-line instructions for submitting comments.

http://www.epa.gov/region4/waste/sf/enforce.htm.

E-mail: Painter.Paula@epa.gov.

FOR FURTHER INFORMATION CONTACT: Paula V. Painter at 404-562-8887.

Dated: June 15, 2009.
Anita L. Davis,
Chief, Superfund Enforcement & Information Management Branch, Superfund Division.

[FR Doc. E9-15535 Filed 7-1-09; 8:45 am]

BILLING CODE 6560-50-M